SMALL BUSINESS ADMINISTRATION

[Disaster Declaration #17644 and #17645; FLORIDA Disaster Number FL-00178]

Presidential Declaration Amendment of a Major Disaster for the State of Florida

AGENCY: U.S. Small Business Administration.

ACTION: Amendment 2.

SUMMARY: This is an amendment of the Presidential declaration of a major disaster for the State of FLORIDA (FEMA-4673-DR), dated 09/29/2022.

Incident: Hurricane Ian.

Incident Period: 09/23/2022 and continuing.

DATES: Issued on 09/30/2022.

Physical Loan Application Deadline Date: 11/28/2022.

Economic Injury (EIDL) Loan Application Deadline Date: 06/29/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of FLORIDA, dated 09/29/2022, is hereby amended to include the following areas as adversely affected by the disaster:

Primary Counties (Physical Damage and Economic Injury Loans): Flagler, Putnam, Saint Johns, Volusia.

Contiguous Counties (Economic Injury Loans Only):

Florida: Alachua, Bradford, Clay, Duval, Marion.

All other information in the original declaration remains unchanged.

(Catalog of Federal Domestic Assistance Number 59008)

Rafaela Monchek,
Acting Associate Administrator for Disaster Assistance.

[FR Doc. 2022-21847 Filed 10-6-22; 8:45 am]

BILLING CODE 8026-09-P